NUCLEAR REGULATORY COMMISSION

[NRC-2014-0277]

Guidance for ITAAC Closure

AGENCY: Nuclear Regulatory Commission.

ACTION: Draft regulatory guide; request for comment.

SUMMARY: The U.S. Nuclear Regulatory Commission (NRC) is issuing for public comment draft regulatory guide (DG), DG-1316, “Guidance for ITAAC Closure Under 10 CFR part 52” (ML14258B182). This guidance is proposed revision 2 of regulatory guide (RG) 1.215 (ML112580018). It has been revised to incorporate additional information related to inspections, tests, analysis, and acceptance criteria (ITAAC) maintenance, lessons learned from simulated ITAAC implementation, changes to the information and formatting guidance for uncompleted ITAAC notifications, and other enhancements. The revised guidance approves for use updated industry guidelines which contain additional information and examples of ITAAC closure notifications discussed during numerous public meetings between the NRC and industry since Revision 1 of RG 1.215 was issued. The guide describes a method that the staff of the NRC considers acceptable for use in satisfying the requirements for documenting the completion of ITAAC.

DATES: Submit comments by March 6, 2015. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Web site: Go to http://www.regulations.gov and search for Docket ID NRC-2014-0277. Address questions about NRC dockets to Carol Gallagher; telephone: 301-287-3422; email: Carol.Gallagher@nrc.gov. For technical questions, contact the individuals listed in the FOR FURTHER INFORMATION CONTACT section of this document.

• Mail comments to: Cindy Bladey, Chief, Rules, Announcements, and Directives Branch (RADB), Office of Administration, Mail Stop: 3WFN 06A-A44M, U.S. Nuclear Regulatory Commission, Washington, DC 20555-0001.

For additional direction on obtaining information and submitting comments, see “Obtaining Information and Submitting Comments” in the SUPPLEMENTARY INFORMATION section of this document.

FOR FURTHER INFORMATION CONTACT: James Gaslevic, Office of New Reactors, telephone: 301-415-2276, email: James.Gaslevic@nrc.gov, or Stephen Burton, Office of Nuclear Regulatory Research, telephone: 301-415-7000, email: Stephen.Burton@nrc.gov; U.S. Nuclear Regulatory Commission, Washington, DC 20555-0001.

SUPPLEMENTARY INFORMATION:

I. Obtaining Information and Submitting Comments

A. Obtaining Information

Please refer to Docket ID NRC-2014-0277 when contacting the NRC about the availability of information regarding this document. You may obtain publicly-available information related to this action by the following methods:

• Federal Rulemaking Web site: Go to http://www.regulations.gov and search for Docket ID NRC-2014-0277.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0277 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide, entitled, “Guidance for ITAAC Closure Under 10 CFR part 52,” is temporarily identified by its task number, DG-1316. DG-1316 is proposed revision 2 of Regulatory Guide 1.215. The guide describes a method that the staff of the NRC considers acceptable for use in satisfying the requirements for documenting the completion of ITAAC for the implementation of Section 52.99 of Title 10 of the Code of Federal Regulations (10 CFR) “Inspection during construction.”

Revision 2 of RG 1.215 approves for use Nuclear Energy Institute (NEI) 08-01, “Industry Guideline for the ITAAC Closure Process under 10 CFR part 52,” Revision 5—Corrected (ML14182A160). NEI 08-01, Revision 5—Corrected, was updated to provide additional requirements related to ITAAC maintenance, lessons learned from simulated ITAAC implementation, changes to the information and formatting guidance for uncompleted ITAAC notifications, and other enhancements. The revised industry guidelines also contain additional information and examples of ITAAC closure notifications which were discussed during numerous public meetings between the NRC and industry.

III. Backfitting and Issue Finality

This draft regulatory guide would approve for use updated industry guidance for ITAAC closure, including the different kinds of ITAAC notifications required by 10 CFR 52.99. Issuance of this regulatory guide in final form would not be inconsistent with the issue finality provisions in 10 CFR part 52. As discussed in the “Implementation” section of this regulatory guide, the NRC has no current intention to impose this draft regulatory guide on current holders of combined licenses. In addition, the matters in this draft regulatory guide do not appear to be within the matters subject to issue finality protection under 10 CFR 52.83 or 10 CFR 52.98.

Therefore, any imposition of this draft regulatory guide on current holders of combined licenses, or current and future applicants for combined licenses, would not be inconsistent with any issue finality protection under 10 CFR 52.83 or 10 CFR 52.98.

Dated at Rockville, Maryland, this 29th day of December, 2014.
For the Nuclear Regulatory Commission.
Harriet Karagiannis,
Acting Chief, Regulatory Guide and Generic Issues Branch, Division of Engineering, Office of Nuclear Regulatory Research.

[FR Doc. 2014-30834 Filed 1-2-15; 8:45 am]

BILLING CODE 7590-01-P